DEPARTMENT OF THE INTERIOR

National Park Service

National Mall and Memorial Parks, Washington, DC; Notice of Availability of an Environmental Impact Statement

AGENCY: Department of the Interior, National Park Service.

ACTION: Notice of Availability.

SUMMARY: Pursuant to the National Environmental Policy Act of 1969, 42 U.S.C. 4332(2)(c), the National Park Service announces the availability of a Draft Environmental Impact Statement for the National Mall Plan, within the National Mall and Memorial Parks in Washington, DC. The National Mall Plan is a long-range management plan that focuses on the use and preservation of the National Mall. The study area is approximately 650 acres in size and contains some of the earliest designated public land in our nation, dating from 1790. The study area contains a significant concentration of our Nation's memorials, cultural resources, and museums and includes the great public open spaces of the Nation's Capital.

DATES: The NPS will undertake a 90-day public review of the Draft Environmental Impact Statement for the National Mall Plan following publication by the Environmental Protection Agency of the Notice of Availability of the Draft Environmental Impact Statement.

The NPS plans to reach out to a nationwide audience and to schedule public meetings after the publication of the Draft Environmental Impact Statement so that the public has adequate time to read the draft document. Dates, times and locations of meetings and other outreach opportunities will be announced in press releases, e-mail announcements and on the National Mall Plan Web site, http://www.nps.gov/nationalmallplan.

ADDRESSES: Copies of the Draft Environmental Impact Statement and National Mall Plan will be available for public review and comment at htttp://www.nps.gov/nationalmallplan, at the National Mall and Memorial Parks Headquarters at 900 Ohio Drive, SW., Washington, DC 20024, and at local libraries around Washington, DC.

SUPPLEMENTARY INFORMATION: If you wish to comment, you may submit your comments online by visiting http://www.nps.gov/nationalmallplan. A link will be provided to the public comment site where instructions will be provided on how to submit your comments. You may also mail or hand-deliver comments to: National Mall Plan, National Mall & Memorial Parks, 900 Ohio Drive, SW., Washington, DC 20024, Attention: Susan Spain, Project Executive.

Before including your address, phone number, e-mail address, or other personal identifying information in your comment, you should be aware that your entire comment—including your personal identifying information—may be made publicly available at any time. While you can ask us in your comment to withhold your personal identifying information from public review, we cannot guarantee that we will be able to do so. The NPS will respond to substantive comments and make appropriate changes to the National Mall Plan, after which a Final Environmental Impact Statement will be published. An official Record of Decision will be announced in the Federal Register 30 days after publication of the Final Environmental Impact Statement.

FOR FURTHER INFORMATION CONTACT: Susan Spain, Project Executive, National Mall Plan at (202) 245-4692.

Dated: December 2, 2009.
Margaret O'Dell,
Regional Director, National Capital Region.

[FR Doc. 2010-223 Filed 1-8-10; 8:45 am]

BILLING CODE 4312-39-P